DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Director, Office of Trade Adjustment Assistance, at the address shown below, no later than January 2, 2018.

Interested persons are invited to submit written comments regarding the subject matter of the investigations to the Director, Office of Trade Adjustment Assistance, at the address shown below, not later than January 2, 2018.

The petitions filed in this case are available for inspection at the Office of the Director, Office of Trade Adjustment Assistance, Employment and Training Administration, U.S. Department of Labor, Room N-5428, 200 Constitution Avenue NW, Washington, DC 20210.

Signed at Washington, DC, on December 7, 2017.
Hope D. Kinglock,
Certifying Officer, Office of Trade Adjustment Assistance.

Appendix

101 TAA Petitions Instituted Between 10/23/17 and 11/30/17
TA-W | Subject firm (petitioners) | Location | Date of institution | Date of petition
93240 | Amesbury Group, Inc. (dba AmesburyTruth) (Company) | Amesbury, MA | 10/23/17 | 10/19/17
93241 | Ferrara Candy Company (State/One-Stop) | Creston, IA | 10/23/17 | 10/19/17
93242 | Kellogg Company (State/One-Stop) | Hagerstown, MD | 10/23/17 | 10/19/17
93243 | LEGO Systems, Inc. (Company) | Enfield, CT | 10/23/17 | 10/20/17
93244 | Cone Denim-White Oak Plant (Company) | Greensboro, NC | 10/24/17 | 10/20/17
93245 | Gerresheimer Glass (State/One-Stop) | Millville, NJ | 10/24/17 | 10/10/17
93246 | Matrix Absence Management, Inc. (State/One-Stop) | Hawthorne, NY | 10/24/17 | 10/20/17
93247 | West Linn Paper Company (State/One-Stop) | West Linn, OR | 10/26/17 | 10/23/17
93248 | Unilever United States (State/One-Stop) | Shelton, CT | 10/26/17 | 10/23/17
93249 | Vesuvius USA (Company) | Charleston, IL | 10/26/17 | 10/24/17
93250 | Daymon Worldwide, Inc. (State/One-Stop) | Hutchinson, KS | 10/27/17 | 10/25/17
93251 | SKF Sealing Solutions (State/One-Stop) | Seneca, KS | 10/27/17 | 10/25/17
93252 | Toront-Dominion Bank/TD Holdings II, Inc. (State/One-Stop) | New York, NY | 10/27/17 | 10/25/17
93253 | Total Facility Solutions a M+W Company (State/One-Stop) | Plano, TX | 10/27/17 | 10/25/17
93254A | Piper Companies (Union) | Reading, PA | 10/30/17 | 10/27/17
93254 | Arrow International Inc. (Union) | Reading, PA | 10/30/17 | 10/27/17
93255 | Capgemini NA (Workers) | Chicago, IL | 10/30/17 | 10/16/17
93256 | DXC Technology aka HP Enterprise (State/One-Stop) | Boulder, CO | 10/30/17 | 10/27/17
93257 | Georg Jensen, Inc. (Workers) | New York, NY | 10/30/17 | 10/25/17
93258 | Gonzalez Group, LLC (State/One-Stop) | Jonesville, MI | 10/30/17 | 10/26/17
93259 | Legend 3D VR VFX (State/One-Stop) | Los Angeles, CA | 10/30/17 | 10/26/17
93260 | Ocean Steel Corporation (State/One-Stop) | Conklin, NY | 10/30/17 | 10/26/17
93261 | UPM Blandin Paper Company (State/One-Stop) | Grand Rapids, MN | 10/30/17 | 10/26/17
93262 | Boyd Coffee Company (State/One-Stop) | Portland, OR | 10/31/17 | 10/27/17
93263 | Echo Bay Minerals Company (State/One-Stop) | Republic, WA | 10/31/17 | 10/24/17
93263A | On-Site Leased Workers from Alaska Aggregate and Aspect Consulting (State/One-Stop) | Republic, WA | 10/31/17 | 10/24/17
93264 | Ericsson (State/One-Stop) | Plano, TX | 11/01/17 | 10/31/17
93265 | Kellogg d/b/a Keebler (State/One-Stop) | Springfield, MO | 11/01/17 | 10/31/17
93266 | Wells Fargo Virtual Channels (WFVC) Contact Center (Workers) | Bethlehem, PA | 11/01/17 | 10/31/17
93267 | Caterpillar Inc., dba Dyersburg Transmission Facility (Company) | Dyersburg, TN | 11/02/17 | 11/01/17
93268 | Gentex Corporation (State/One-Stop) | Carbondale, PA | 11/02/17 | 11/01/17
93269 | McAfee (Workers) | Idaho Falls, ID | 11/02/17 | 11/01/17
93270 | Hazelnut Grower of Oregon (Wilco) (State/One-Stop) | Cornelius, OR | 11/02/17 | 11/01/17
93271 | Airtex Products, LP (State/One-Stop) | Fairfield, IL | 11/03/17 | 11/02/17
93272 | Behr-Hella Thermocontrol, Inc. (State/One-Stop) | Wixom, MI | 11/03/17 | 11/02/17
93273 | Henry Technologies, Inc. (State/One-Stop) | Chatham, IL | 11/03/17 | 11/02/17
93274 | Quad Graphics (State/One-Stop) | Saratoga Springs, NY | 11/03/17 | 11/02/17
93275 | Willis Lease Finance Corporation (State/One-Stop) | Novato, CA | 11/03/17 | 11/02/17
93276 | Avery Dennison (Company) | Dallas, TX | 11/06/17 | 11/02/17
93277 | Bay Valley Foods (sub of Treehouse Foods) (State/One-Stop) | Portland, OR | 11/06/17 | 11/03/17
93278 | Bush Industries of Pennsylvania, Inc. (Company) | Erie, PA | 11/06/17 | 11/05/17
93278A | Career Concepts, Express Employment Professional, U.S. Security Associates (Company) | Erie, PA | 11/06/17 | 11/05/17
93279 | Invista (Workers) | Athens, GA | 11/06/17 | 11/03/17
93280 | News America Marketing (Workers) | Wilton, CT | 11/06/17 | 10/10/17
93281 | Remy Power Products, LLC (State/One-Stop) | Edmond, OK | 11/06/17 | 11/03/17
93282A | Stion Corporation (Company) | Hattiesburg, MS | 11/06/17 | 11/03/17
93282 | Stion Corporation (Company) | San Jose, CA | 11/06/17 | 11/03/17
93283 | Milestone Technologies (State/One-Stop) | Fremont, CA | 11/07/17 | 11/06/17
93284 | Selectel Wireless Call Center (State/One-Stop) | Fremont, NE | 11/07/17 | 11/06/17
93285 | TrueBlue, Inc. (State/One-Stop) | Chicago, IL | 11/07/17 | 11/06/17
93286 | M&G Polymers USA, LLC (Union) | Apple Grove, WV | 11/07/17 | 11/03/17
93287 | Duracell (State/One-Stop) | Cleveland, TN | 11/08/17 | 11/07/17
93288 | Zhongding USA (Hannibal) Inc. (State/One-Stop) | Hannibal, MO | 11/09/17 | 11/08/17
93289 | Haemonetics Corporation (State/One-Stop) | Braintree, MA | 11/09/17 | 11/08/17
93290 | HITCO (State/One-Stop) | Gardena, CA | 11/09/17 | 11/08/17
93291 | iMedX (State/One-Stop) | Atlanta, GA | 11/09/17 | 11/08/17
93292 | JR Simplot (Company) | Lathrop, CA | 11/09/17 | 11/08/17
93293 | Masimo (State/One-Stop) | Irvine, CA | 11/09/17 | 11/08/17
93294 | National Spinning Beulaville Spinning Plant (Company) | Beulaville, NC | 11/09/17 | 11/08/17
93295 | RR Donnelley (Company) | Wayne, NJ | 11/09/17 | 11/08/17
93296 | Trialon (State/One-Stop) | Warren, OH | 11/09/17 | 11/08/17
93297 | Willis Towers Watson (State/One-Stop) | Nashville, TN | 11/09/17 | 11/08/17
93298 | ABB Inc. (State/One-Stop) | St. Louis, MO | 11/13/17 | 11/09/17
93299 | Advanced Health Partners, Inc. (State/One-Stop) | New Windsor, NY | 11/13/17 | 11/09/17
93300 | ATeam HQ, Inc. (Workers) | Chandler, AZ | 11/13/17 | 10/19/17
93301 | Carlisle Fluid Technologies, Inc. (Company) | Angola, IN | 11/13/17 | 11/10/17
93302 | Contitech (Union) | Sun Prairie, WI | 11/13/17 | 11/09/17
93303 | Huawei (State/One-Stop) | Plano, TX | 11/13/17 | 11/10/17
93304 | Huntsman/Venator (Workers) | Easton, PA | 11/13/17 | 11/09/17
93305 | Specialty Tires of America (State/One-Stop) | Indiana, PA | 11/13/17 | 11/09/17
93306 | Vertellus (State/One-Stop) | Delaware Water Gap, PA | 11/13/17 | 11/09/17
93307 | ADM (State/One-Stop) | Decatur, IL | 11/14/17 | 11/13/17
93308 | Oak-Mitsui (State/One-Stop) | Hoosick Falls, NY | 11/14/17 | 10/27/17
93309 | Smart & Final (Workers) | Commerce, CA | 11/14/17 | 11/13/17
93310 | GBG USA Inc. (Workers) | Wytheville, VA | 11/15/17 | 11/13/17
93311 | Temp Inc. (Workers) | Fairmont, WV | 11/15/17 | 11/15/17
93312 | Microsemi Corporation (State/One-Stop) | Bend, OR | 11/16/17 | 11/15/17
93313 | MilliporeSigma (Workers) | Bellefonte, PA | 11/16/17 | 11/15/17
93314 | Aerogroup International, Inc. (State/One-Stop) | Edison, NJ | 11/17/17 | 11/16/17
93315 | Astro Apparel, Inc. (Company) | Scranton, PA | 11/17/17 | 11/16/17
93316 | Vestas America Wind Technology Inc. (State/One-Stop) | Portland, OR | 11/20/17 | 11/17/17
93317 | Auxin Solar (State/One-Stop) | San Jose, CA | 11/21/17 | 11/20/17
93318 | Beamreach (State/One-Stop) | San Francisco, CA | 11/21/17 | 11/20/17
93319 | Smith International Inc. (State/One-Stop) | Ponca City, OK | 11/21/17 | 07/31/17
93320 | Solon Corporation (State/One-Stop) | Tucson, AZ | 11/21/17 | 11/20/17
93321 | Kyocera Solar, Inc. (State/One-Stop) | San Diego, CA | 11/22/17 | 11/21/17
93322 | Unified Grocers (State/One-Stop) | Commerce, CA | 11/22/17 | 11/20/17
93323 | Payless (State/One-Stop) | Topeka, KS | 11/24/17 | 11/22/17
93324 | Dresser-Rand (State/One-Stop) | Painted Post, NY | 11/27/17 | 11/24/17
93325 | Eli Lilly (Company) | Bridgewater, NJ | 11/27/17 | 11/24/17
93326 | Oticon, Inc. (State/One-Stop) | Somerset, NJ | 11/27/17 | 11/24/17
93327 | AG Manufacturing, Inc.—Alabama (Company) | Wetumpka, AL | 11/28/17 | 11/27/17
93328 | Altice USA (State/One-Stop) | Woodbury, NY | 11/28/17 | 11/27/17
93329 | Kyklos Bearing International, LLC (State/One-Stop) | Sandusky, OH | 11/28/17 | 11/27/17
93330 | CDI (State/One-Stop) | Indianapolis, IN | 11/29/17 | 11/28/17
93331 | Securitas USA (at Kellogg Seelyville Bakery) (State/One-Stop) | Terre Haute, IN | 11/29/17 | 11/28/17
93332 | Murray's Iron Works, Inc. (State/One-Stop) | Commerce, CA | 11/29/17 | 11/28/17
93333 | Julius Koch USA, Inc. (Company) | New Bedford, MA | 11/29/17 | 11/20/17
93334 | Flowserve U.S. Inc., Parts Manufacturing Center (Company) | Clarks Summit, PA | 11/30/17 | 11/27/17
93335 | Pacific Gas & Electric Co. (State/One-Stop) | San Francisco, CA | 11/30/17 | 11/29/17
93336 | Suniva, Inc. (State/One-Stop) | Norcross, GA | 11/30/17 | 11/29/17

[FR Doc. 2017-27532 Filed 12-20-17; 8:45 am]

BILLING CODE 4510-FN-P